DEPARTMENT OF JUSTICE

Notice of Lodging of Two Consent Decrees

Notice is hereby given that on May 15, 2012, two proposed Consent Decrees were lodged with the United States District Court for the Central District of California. Both Consent Decrees were lodged in the case United States et al. v. Seachrome Corp. et al, Civil Action No. 2:02-cv-4565 ABC (RCx) (C.D. Cal.) (“Seachrome”).

In Seachrome, the United States of America (“United States”), on behalf of the Administrator of the United States Environmental Protection Agency (“EPA”), and the California Department of Toxic Substances Control (“Department”), filed a complaint pursuant to Section 107 of the Comprehensive Environmental Response, Compensation, and Liability Act of 1980, as amended (“CERCLA”), 42 U.S.C. § 9607, seeking reimbursement of response costs incurred or to be incurred for response actions taken in connection with the release or threatened release of hazardous substances at the South El Monte Operable Unit of the San Gabriel Valley Area 1 Superfund Site in South El Monte, Los Angeles County, California (the “South El Monte O.U.”).

Under the first proposed Consent Decree, nine potentially responsible parties (“PRPs”) with respect to the South El Monte O.U. will pay a total of about $4.625 million. The nine PRPs are: Astro Seal, Inc.; EBA, Inc. d/b/a Earl Butler Associates; New Air, Inc.; Pacific Coast Drum Company; Art Weiss, Art Weiss, Inc., and Del Ray Industrial Enterprises, Inc. (“Art Weiss Defendants”); Craneveyor Corp.; M&T, LLC; Mary Brkich; and Quaker Chemical Corp., the first five of which are settling based on an amount commensurate with their limited ability to pay. In exchange for the ability to pay payments, the plaintiffs covenant not to sue the ability to pay settling defendants under Section 106 or 107 of CERCLA with respect to the South El Monte O.U. In exchange for the payments from the other four parties, the plaintiffs covenant not to sue those parties under Section 106 or 107 of CERCLA with respect to past response costs, the interim remedy for volatile organic compounds, or for perchlorate.

Under the second proposed Consent Decree, the settling party, Seachrome Corporation, will pay a total of about $960,000. The settlement amount is based on Seachrome Corporation's limited ability to pay. In exchange for the ability to pay payment, the plaintiffs covenant not to sue Seachrome Corporation under Section 106 or 107 of CERCLA with respect to the South El Monte O.U.

The Department of Justice will receive for a period of thirty (30) days from the date of this publication comments relating to the proposed Consent Decrees. Comments should be addressed to the Assistant Attorney General, Environment and Natural Resources Division, and either emailed to pubcomment-ees.enrd@usdoj.gov or mailed to P.O. Box 7611, U.S. Department of Justice, Washington, DC 20044-7611, and should refer to this case: United States et al. v. Seachrome Corp. et al, Civil Action No. 2:02-cv-4565 FMC (C.D. Cal.), D.J. Ref. 90-11-2-09121/5.

The proposed Consent Decrees may be examined at the Environmental Protection Agency, Office of Regional Counsel, 75 Hawthorne St., San Francisco, California 94105. During the public comment period, the Consent Decrees may also be examined on the following Department of Justice Web site, http://www.usdoj.gov/enrd/Consent_Decrees.html. A copy of the proposed Consent Decrees may also be obtained by mail from the Consent Decree Library, P.O. Box 7611, U.S. Department of Justice, Washington, DC 20044-7611 or by faxing or emailing a request to “Consent Decree Copy” (EESCDCopy.ENRD@usdoj.gov), fax no. (202) 514-0097, phone confirmation no. (202) 514-5271. In requesting a copy from the Consent Decree Library, please enclose a check payable to the “U.S. Treasury” or, if by email or fax, forward a check to the Consent Decree Library at the stated address, in the following amounts (25 cents per page reproduction cost): $8.75 for the first proposed Consent Decree (without attachments), which involves nine parties, or $6.75 for the second proposed Consent Decree (without attachments), which involves one party.

Henry S. Friedman,
Assistant Section Chief, Environmental Enforcement Section, Environment and Natural Resources Division.

[FR Doc. 2012-12301 Filed 5-21-12; 8:45 am]

BILLING CODE 4410-15-P